INTERNATIONAL TRADE COMMISSION

[USITC SE-03-027]

Sunshine Act Meeting; Notice

AGENCY: United States International Trade Commission.

Time and Date: August 18, 2003 at 11 a.m.

Place: Room 101, 500 E Street SW., Washington, DC 20436, Telephone: (202) 205-2000.

Status: Open to the public.

Matters to be Considered: 1. Agenda for future meetings: none.

2. Minutes.

3. Ratification List.

4. Inv. Nos. 731-TA-753-756 (Review) (Cut-to-Length Carbon Steel Plate from China, Russia, South Africa, and Ukraine)—briefing and vote. (The Commission is currently scheduled to transmit its determination and Commissioners' opinions to the Secretary of Commerce on or before August 29, 2003.)

5. Inv. Nos. 303-TA-23, 731-TA-566-570, and 731-TA-641 (Final) (Reconsideration) (Second Remand) (Ferrosilicon from Brazil, China, Kazakhstan, Russia, Ukraine, and Venezuela)—briefing and vote. (Commissioners' views on remand are currently scheduled to be transmitted to the United States Court of International Trade on or before September 19, 2003.)

6. Outstanding action jackets: none.

In accordance with Commission policy, subject matter listed above, not disposed of at the scheduled meeting, may be carried over to the agenda of the following meeting.

By order of the Commission.
Issued: August 5, 2003.
Marilyn R. Abbott,
Secretary to the Commission.

[FR Doc. 03-20364 Filed 8-6-03; 11:10 am]

BILLING CODE 7020-02-P